ENVIRONMENTAL PROTECTION AGENCY

[FRL-7807-9]

Receipt of an Application From the State of Ohio to Declare Its Waters of Lake Erie a No Discharge Zone for Vessel Sewage

AGENCY: Environmental Protection Agency (EPA).

ACTION: Receipt of a petition from the State of Ohio for determination as to the adequacy of facilities on Lake Erie for the disposal of vessel sewage.

SUMMARY: Notice is hereby given that a petition has been received from the State of Ohio for a determination by the Administrator of Region 5 that there is a reasonable availability of adequate facilities for the safe and sanitary removal and treatment of sewage from all vessels on its waters of Lake Erie.

SUPPLEMENTARY INFORMATION: On June 23, 2004, the State of Ohio, Department of Natural Resources, submitted a petition requesting the EPA to declare the Ohio waters of Lake Erie a No Discharge Zone under section 312(f)(3) of the Clean Water Act (33 U.S.C. 1322(f)(3) and 40 CFR 140.4(a). Section 312(f)(3) states that “After the effective date of the initial standards and regulations promulgated under this section, if any State determines that the protection and enhancement of the quality of some or all of the waters within such State require greater environmental protection, such State may completely prohibit the discharge from all vessels of any sewage, whether treated or not, into such waters, except that no prohibition shall apply until the Administrator determines that adequate facilities for the safe and sanitary removal and treatment of sewage from all vessels are reasonably available for such waters to which the prohibition would apply.”

The petition states that there are 81,371 licensed watercraft in the counties bordering Lake Erie with 22% of the motorized boat users having either a portable or permanent toilet on board and that approximately 353 marinas are located with access to the lake. Of these, 121 marinas have pumpout and/or dump stations for vessel sewage. A listing of these facilities and their location has been submitted with the petition. In addition, there are over 700 shoreline public restrooms available at public boat launches, docks and parks. Also, there are nine ports with 35 commercial docking facilities with no pumpout stations. However, the petition states that these ports are serviced by private septage tanker trucks. Once the Regional Administrator determines that adequate facilities are available, the State of Ohio has the authority pursuant to section 312(f)(3) of the Clean Water Act and 40 CFR 140.4(a) to completely prohibit the discharge of sewage, whether treated or not, from all vessels into the waters of Lake Erie under its jurisdiction.

Comments and views regarding this petition, pending a determination by the Regional Administrator, may be filed within 30 days of publication of this notice. These should be addressed to Irvin J. Dzikowski P.E. at U.S. Environmental Protection Agency, Region 5 WN-16J, 77 West Jackson Blvd, Chicago, Illinois 60604.

Dated: August 23, 2004.
Bharat Mathur,
Acting Regional Administrator, Region 5.

[FR Doc. 04-19819 Filed 8-30-04; 8:45 am]

BILLING CODE 6560-50-P